DEPARTMENT OF JUSTICE

Notice of Lodging of Consent Decree Under Comprehensive Environmental Response, Compensation and Liability Act

Notice is hereby given that on August 2, 2010 a proposed Consent Judgment in United States v. B.C.F. Oil Refining Inc., et al., No. CV-05-0562, was lodged with the United States District Court for the Eastern District of New York.

The complaint was filed against B.C.F. Oil Refining Inc. (“B.C.F.”) and Cary Fields on behalf of the Environmental Protection Agency (“EPA”) pursuant to Section 107(a) of the Comprehensive Environmental Response, Compensation and Liability Act of 1980 (“CERCLA”), as amended, 42 U.S.C. 9607(a), in connection with the B.C.F. Oil Refining Superfund Site located at 360-362 Maspeth Avenue in Brooklyn, New York in Kings County, New York (“Site”). The United States alleged that Cary Fields was liable as an operator of the Site. The United States also filed a claim against the Site property pursuant to Section 107(l) of CERCLA, 42 U.S.C. 9607(l). The claims of the United States with respect to B.C.F. and the Site property were resolved through a Stipulation and Order Determining Liability Against Defendant B.C.F. Oil Refining Inc., entered by the Court on April 7, 2006. The Court entered judgment in favor of the United States and against B.C.F. on August 15, 2007.

The proposed Consent Judgment resolves claims of the United States on behalf of EPA under CERCLA in connection with the Site, pursuant to Section 107(a) of CERCLA, 42 U.S.C. 9607(a), against Cary Fields (“Settling Defendant”). The Consent Judgment requires Settling Defendant to pay to the United States the total sum of $1,500,000 in payment for EPA's past response costs in connection with a removal action at the Site and accrued interest.

The proposed Consent Judgment provides that Settling Defendant is entitled to contribution protection as provided by Section 113(f)(2) of CERCLA, 42 U.S.C. 9613(f)(2) for matters addressed by the settlement.

The Department of Justice will receive for a period of 30 days from the date of this publication comments relating to the proposed Consent Judgment. Comments should be addressed to the Assistant Attorney General, Environment and Natural Resources Division, and either e-mailed to pubcomment-ees.enrd@usdoj.gov or mailed to P.O. Box 7611, U.S. Department of Justice, Washington, DC 20044-7611, and should refer to: United States v. B.C.F. Oil Refining Inc., et al., No. CV-05-0562 (E.D.N.Y.), D.J. Ref. 90-11-3-07172.

The proposed Consent Judgment may be examined at the Office of the United States Attorney, Eastern District of New York, 271 Cadman Plaza East, 7th Fl., Brooklyn, New York 11201, and at the United States Environmental Protection Agency, Region II, 290 Broadway, New York, New York 10007-1866. During the public comment period, the proposed Consent Judgment may also be examined on the following Department of Justice Web site, http://www.usdoj.gov/enrd/Consent_Decrees.html. A copy of the proposed Consent Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.25 (25 cents per page reproduction cost), payable to the U.S. Treasury.

Maureen Katz,
Assistant Chief, Environmental Enforcement Section, Environment and Natural Resources Division.

[FR Doc. 2010-19443 Filed 8-5-10; 8:45 am]

BILLING CODE 4410-15-P